DEPARTMENT OF ENERGY

Federal Energy Regulatory Commission

Combined Notice of Filings

Take notice that the Commission has received the following Natural Gas Pipeline Rate and Refund Report filings:

Filings Instituting Proceedings

Docket Numbers: RP23-455-000.

Applicants: KO Transmission Company.

Description: Tariff Amendment: KOT—Notice of Cancellation to be effective 2/23/2023.

Filed Date: 2/23/23.

Accession Number: 20230223-5067.

Comment Date: 5 p.m. ET 3/7/23.

Docket Numbers: RP23-456-000.

Applicants: Columbia Gas Transmission, LLC.

Description: Compliance filing: Annual Report on Operational Transactions 2023 to be effective N/A.

Filed Date: 2/23/23.

Accession Number: 20230223-5087.

Comment Date: 5 p.m. ET 3/7/23.

Docket Numbers: RP23-457-000.

Applicants: Crossroads Pipeline Company.

Description: Compliance filing: Annual Report on Operational Transactions 2023 to be effective N/A.

Filed Date: 2/23/23.

Accession Number: 20230223-5090.

Comment Date: 5 p.m. ET 3/7/23.

Docket Numbers: RP23-458-000.

Applicants: Hardy Storage Company, LLC.

Description: Compliance filing: Annual Report on Operational Transactions 2023 to be effective N/A.

Filed Date: 2/23/23.

Accession Number: 20230223-5096.

Comment Date: 5 p.m. ET 3/7/23.

Docket Numbers: RP23-459-000.

Applicants: Columbia Gulf Transmission, LLC.

Description: Compliance filing: Annual Report on Operational Transactions 2023 to be effective N/A.

Filed Date: 2/23/23.

Accession Number: 20230223-5099.

Comment Date: 5 p.m. ET 3/7/23.

Docket Numbers: RP23-460-000.

Applicants: Viking Gas Transmission Company.

Description: § 4(d) Rate Filing: Annual LMCRA Filing—Spring 2023 to be effective 4/1/2023.

Filed Date: 2/24/23.

Accession Number: 20230224-5031.

Comment Date: 5 p.m. ET 3/8/23.

Docket Numbers: RP23-461-000.

Applicants: Viking Gas Transmission Company.

Description: § 4(d) Rate Filing: Semi-Annual Fuel and Losses Retention Adjustment—Spring 2023 to be effective 4/1/2023.

Filed Date: 2/24/23.

Accession Number: 20230224-5050.

Comment Date: 5 p.m. ET 3/8/23.

Docket Numbers: RP23-462-000.

Applicants: Cimarron River Pipeline, LLC.

Description: § 4(d) Rate Filing: Fuel Tracker 2023—Summer Season Rates to be effective 4/1/2023.

Filed Date: 2/24/23.

Accession Number: 20230224-5071.

Comment Date: 5 p.m. ET 3/8/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2023.
Kimberly D. Bose,
Secretary.

[FR Doc. 2023-04311 Filed 3-1-23; 8:45 am]

BILLING CODE 6717-01-P